DEPARTMENT OF DEFENSE

Department of the Navy

Privacy Act of 1974; System of Records

AGENCY: Department of the Navy, DoD.

ACTION: Notice to Delete and Amend Systems of Records.

SUMMARY: The Department of the Navy is deleting one and amending two systems of records notices in its existing inventory of records systems subject to the Privacy Act of 1974, (5 U.S.C. 552a), as amended.

DATES: This proposed action will be effective without further notice on June 16, 2004 unless comments are received which result in a contrary determination.

ADDRESSES: Send comments to Department of the Navy, PA/FOIA Policy Branch, Chief of Naval Operations, (DNS-36), 2000 Navy Pentagon, Washington, DC 20350-2000.

FOR FURTHER INFORMATION CONTACT: Mrs. Doris Lama at (202) 685-6545 or DSN 325-6545.

SUPPLEMENTARY INFORMATION: The Department of the Navy systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: May 10, 2004.
L.M. Bynum,
Alternate OSD Federal Register Liaison Officer, Department of Defense.

Deletion

MMN00022

System name:

Vehicle Control System (January 4, 2000, 65 FR 291).

Reason: Records are now being maintained under a Department of the Navy Privacy Act system of records notice NM05512-1, entitled ‘Vehicle Control System’.

Amendments

N05512-1

System name:

Vehicle Control System (May 9, 2003, 68 FR 24959).

Changes:

System identifier:

Replace entry with ‘NM05512-1’.

* * * * *

System location:

Delete first paragraph and replace with ‘Organizational elements of the Department of the Navy. Official mailing addresses are published in the Standard Navy Distribution List that is available at http://neds.nebt.daps.mil/sndl.htm.’

* * * * *

Authority for maintenance of the system:

Delete entry and replace with 10 U.S.C. 5013, Secretary of the Navy: 10 U.S.C. 5041, Headquarters, Marine Corps; and E.O. 9397 (SSN).

* * * * *

Storage:

Delete entry and replace with ‘Paper and automated records’.

Retrievability:

Delete entry and replace with ‘Individual's name, Social Security Number, state license plate number, case number, and organization.’

* * * * *

NM05512-1

System name:

Vehicle Control System.

System location:

Organizational elements of the Department of the Navy. Official mailing addresses are published in the Standard Navy Distribution List that is available at http://neds.nebt.daps.mil/sndl.htm.

Commander, U.S. Joint Forces Command, 1562 Mitscher Avenue, Suite 200, Norfolk, VA 23551-2488.

Commander, U.S. Pacific Command, P.O. Box 64028, Camp H.M. Smith, HI 96861-4028.

Categories of Individuals covered by the system:

Individuals who have registered their vehicles, boats, or trailers at a Navy/combatant command installation; individuals who have applied for a Government Motor Vehicle Operator's license; and individuals who possess a Government Motor Vehicle Operator's license with authority to operate government vehicles.

Categories of records in the system:

File contains records of each individual who has registered a vehicle on the installation concerned to include decal data, insurance information, state of registration and identification. Applications may contain such information as name, date of birth, Social Security Number, Driver's license information (i.e., height, weight, hair and eye color), place of employment, driving record, Military I.D. information, etc. File also contains records/notations of traffic violations, citations, suspensions, applications for government vehicle operator's I.D. card, operator qualifications and record licensing examination and performance, record of failures to qualify for a Government Motor Vehicle Operator's permit, record of government motor vehicle and other vehicle's accidents, and information on student driver training.

Authority for maintenance of the system:

10 U.S.C. 5013, Secretary of the Navy; 10 U.S.C. 5041, Headquarters, Marine Corps; and E.O. 9397 (SSN).

Purpose(s):

To provide a record of each individual who has registered a vehicle in an installation to include a record on individuals authorized to operate official government vehicles.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Paper and automated records.

Retrievability:

Individual's name, Social Security Number, state license plate number, case number, and organization.

Safeguards:

Limited access provided on a need-to-know basis only. Information maintained on computers is password protected. Files maintained in locked and/or guarded office.

Retention and disposal:

Records are maintained for one year after transfer or separation from the installation concerned. Paper records are then destroyed and records on magnetic tapes erased.

System manager(s) and address:

Commanding officer of the activity in question. Official mailing addresses are published in the Standard Navy Distribution List that is available at http://neds.nebt.daps._mil/sndl.htm.

Notification procedure:

Individuals seeking to determine whether this system of records contains information about themselves should address written inquiries to the Commanding Officer or head of the activity where assigned. Official mailing addresses are published in the Standard Navy Distribution List that is available at http://neds.nebt.daps._mil/sndl.htm.

Written requests should contain the individual's full name, Social Security Number, and the request must be signed.

Record access procedures:

Individuals seeking access to records about themselves should address written inquiries to the Commanding Officer or head of the activity where assigned. Official mailing addresses are published in the Standard Navy Distribution List that is available at http://neds.nebt.daps._mil/sndl.htm.

Written requests should contain the individual's full name, Social Security Number, and the request must be signed.

Contesting record procedures:

The Navy's rules for accessing records, and for contesting contents and appealing initial agency determinations are published in Secretary of the Navy Instruction 5211.5; 32 CFR part 701; or may be obtained from the system manager.

Record source categories:

Individual concerned, driving record, insurance papers, activity correspondence, investigators reports, and witness statements.

Exemptions claimed for the system:

None.

N05512-2

System name:

Badge and Access Control System (May 9, 2003, 68 FR 24959).

Changes:

System identifier:

Replace entry with ‘NM05512-2’.

* * * * *

System location:

Delete first paragraph and replace with ‘Organizational elements of the Department of the Navy. Official mailing addresses are published in the Standard Navy Distribution List that is available at http://neds.nebt.daps.mil/sndl.htm.’

* * * * *

Categories of records in the system:

Add to end of entry ‘and information that reflects time of entry/exit from facility.’

Authority for maintenance of the system:

Delete entry and replace with ‘10 U.S.C. 5013, Secretary of the Navy; 10 U.S.C. 5041, Headquarters, Marine Corps; OPNAVINST 5530.14C, Navy Physical Security; Marine Corps Order P5530.14, Marine Corps Physical Security Program Manual; and E.O. 9397 (SSN)’.

Purpose(s):

Add to end of entry ‘and track the entry/exit times of personnel’.

* * * * *

NM05512-2

System name:

Badge and Access Control System.

System location:

Organizational elements of the Department of the Navy. Official mailing addresses are published in the Standard Navy Distribution List that is available at http://neds.nebt.daps.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Individuals considered or seeking consideration for access to space under the control of the Department of the Navy/combatant command and any visitor (military, civilian, or contractor) requiring access to a controlled facility.

Categories of records in the system:

Visit requests for permission to transact commercial business; visitor clearance data for individuals to visit a Navy/Marine Corps base/activity/contractor facility; barring lists and letters of exclusion; badge/pass issuance records; and information that reflects time of entry/exit from facility.

Authority for maintenance of the system:

10 U.S.C. 5013, Secretary of the Navy; 10 U.S.C. 5041, Headquarters, Marine Corps; OPNAVINST 5530.14C, Navy Physical Security; Marine Corps Order P5530.14, Marine Corps Physical Security Program Manual; and E.O. 9397 (SSN).

Purpose(s):

To maintain all aspects of proper access control; to issue badges, replace lost badges and retrieve passes upon separation; to maintain visitor statistics; collect information to adjudicate access to facility; and track the entry/exit times of personnel.

Routine uses of records maintained in the system, including categories of users and the purposes of such uses: In addition to those disclosures generally permitted under 5 U.S.C. 552a(b) of the Privacy Act, these records of information contained therein may specifically be disclosed outside the DoD as a routine use pursuant to 5 U.S.C. 552a(b)(3) as follows:

To designated contractors, Federal agencies and foreign governments for the purpose of granting Navy officials access to their facility.

The DoD ‘Blanket Routine Uses’ that appear at the beginning of the Navy's compilation of systems of records notices apply to this system.

Policies and practices for storing, retrieving, accessing, retaining, and disposing of records in the system:

Storage:

File folders, card files, magnetic tape, personal computers, and electronic badging system.

Retrievability:

Name, Social Security Number, Case number, organization, and company name.

Safeguards:

Access is provided on a need-to-know basis only. Manual records are maintained in file cabinets under the control of authorized personnel during working hours. The office space in which the file cabinets are located is locked outside of official working hours. Computer terminals are located in supervised areas. Access is controlled by password or other user code system.

Retention and disposal:

Badges and passes are destroyed three months after return to issuing office. Records of issuance are destroyed six months after new accountability system is established or one year after final disposition of each issuance record is entered in retention log or similar record, whichever is earlier. Visit request records are destroyed two years after final entry or two years after date of document, whichever is later.

System manager(s) and address:

Policy Official: Chief of Naval Operations (N09N2), 2000 Navy Pentagon, Washington, DC 20350-2000.

Record Holder: Commanding officer of the activity in question. Official mailing addresses are published as an appendix to the Navy's compilation of systems of records notices.

Notification procedure:

Individuals seeking to determine whether information about themselves is contained in this system should address written inquiries to the Commanding officer of the activity in question. Official mailing addresses are published in the Standard Navy Distribution List that is available at http://neds. nebt.daps.mil/sndl.htm.

Individual should provide full name and Social Security Number and sign the request.

Record access procedures:

Individuals seeking access to information about themselves contained in this system should address written inquiries to the Commanding officer of the activity in question. Official mailing addresses are published in the Standard Navy Distribution List that is available at http://neds.nebt.daps.mil/sndl.htm.

Individual should provide full name, Social Security Number, and sign the request.

Contesting record procedures:

The Navy's rules for accessing records, and for contesting contents and appealing initial agency determinations are published in Secretary of the Navy Instruction 5211.5; 32 CFR part 701; or may be obtained from the system manager.

Record source categories:

Visit requests; individual; records of the activity; investigators; witnesses; contractors; and companies.

Exemptions claimed for the system:

None.

[FR Doc. 04-11046 Filed 5-14-04; 8:45 am]

BILLING CODE 5001-06-M